DEPARTMENT OF HEALTH AND HUMAN SERVICES

Centers for Disease Control and Prevention

[30Day-26-0980]

Agency Forms Undergoing Paperwork Reduction Act Review

In accordance with the Paperwork Reduction Act of 1995, the Centers for Disease Control and Prevention (CDC) has submitted the information collection request titled “National Environmental Assessment Reporting System (NEARS)” to the Office of Management and Budget (OMB) for review and approval. CDC previously published a “Proposed Data Collection Submitted for Public Comment and Recommendations” notice on October 2, 2025 to obtain comments from the public and affected agencies. CDC received one anonymous comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Environmental Assessment Reporting System (NEARS) (OMB Control No. 0920-0980, Exp. 2/28/2026)—Revision—National Center for Environmental Health (NCEH), Centers for Disease Control and Prevention (CDC).

Background and Brief Description

CDC is requesting OMB approval for the National Environmental Assessment Reporting System (NEARS) to collect data from outbreak environmental assessments routinely conducted by local, state, territorial, or tribal food safety programs during foodborne outbreak investigations. Prior to the development of NEARS, environmental assessment data were not collected at the national level. The data reported through this surveillance system provides timely information on the causes of outbreaks, including environmental factors associated with outbreaks, and are essential to environmental public health regulators' efforts to respond more effectively to outbreaks and prevent future, similar outbreaks.

NEARS was developed by the Environmental Health Specialists Network (EHS-Net), a collaborative network of CDC, the U.S. Food and Drug Administration (FDA), the U.S. Department of Agriculture (USDA), and state and local food safety programs. The network consists of environmental health specialists (EHS), epidemiologists, and laboratorians. EHS-Net developed a standardized protocol for identifying, reporting, and analyzing data relevant to foodborne illness outbreak environmental assessments. While conducting environmental assessments during foodborne outbreak investigations is routine for food safety program officials, reporting information from the environmental assessments to CDC is not routine. Local, state, federal, territorial, and tribal food safety programs are the primary respondents for this data collection. One official from each participating program will report environmental assessment data on outbreaks. These programs are typically located in public health or agriculture agencies. In the U.S., there are approximately 3,000 such agencies. Not every one of these agencies will register in NEARS or respond every year.

It is not possible to determine exactly how many outbreaks will occur in the future, nor where they will occur. Forty programs reported outbreaks to NEARS from 2021-2024. Based on our experience over those years, we expect a maximum of six additional sites (two per year) to register with and report data to NEARS over the next PRA cycle, for a total of 46 reporting programs. We also expect each program to report an average of six outbreaks annually, for a total of 276 outbreaks annually.

The activities associated with NEARS that require a burden estimate consist of registration, training, observing and reporting the data, and interviewing managers and reporting the data. Food safety programs interested in participating in NEARS must first register to use the system, which takes about 10 minutes. We anticipate six new programs to join in the next three years, resulting in two new programs per year. Therefore, the total estimated annual burden associated with registration is one hour (10 minutes × 2 programs = 0.3 hours rounded to one hour).

The second activity is the training for the new food safety program personnel participating in NEARS. These staff will be encouraged to attend a Microsoft Teams (i.e., webinar) training session on using the NEARS data entry system, conducted by CDC staff. We estimate the burden of this training to be a maximum of two hours. Respondents will only be required to take this training one time. Assuming two new programs annually and about five staff being trained at each participating program, the total estimated annual burden associated with this training is 20 hours (2 programs × 5 staff × 2 hours).

New food safety program personnel participating in NEARS will also be encouraged to complete CDC's Environmental Assessment Training Series (EATS). This e-Learning course provides training to staff on how to use a systems approach in foodborne illness outbreak environmental assessments. We estimate the burden of this training to be a maximum of 10 hours. Respondents will only take this training one time. Assuming a maximum participation of up to two new programs annually and approximately five staff being trained at each program, the estimated annual burden associated with this training is 100 hours (2 programs × 5 staff × 10 hours).

Program respondents (one official from each participating program) will record environmental assessment data on pen and paper for each establishment associated with an outbreak. Most outbreaks are associated with only one establishment; however, some are associated with multiple establishments. We estimate a maximum of four establishments will be associated with any given outbreak. Recording for each assessment will take about 25 minutes. The annual burden for this activity is 460 hours (276 outbreaks × 4 establishments × 25 minutes).

Program respondents will conduct a manager interview with each establishment associated with an outbreak and initially record the data with pen and paper. Each interview will take about 20 minutes. The annual burden for this activity is 368 hours (276 outbreaks × 4 establishments × 20 minutes). Respondents will also report this environmental assessment and manager interview data into the NEARS web-based system. This data entry is expected to take approximately 25 minutes for the environmental assessment data and 20 minutes for each manager interview (assuming a maximum of four). The annual burden for this activity is 207 hours (276 outbreaks × 45 minutes). Retail food managers interviewed are another group of respondents. Again, assuming a maximum number of 276 outbreaks, the estimated annual burden is 368 hours (276 outbreaks × 4 establishments × 20 minutes each).

CDC requests OMB approval for an estimated 1,524 annual burden hours. There is no cost to respondents other than their time.

Estimated Annualized Burden Hours
Type of respondents | Form name | Number of respondents | Number of responses per respondent | Average burden per response (in hours)
Food safety program personnel | NEARS registration | 2 | 1 | 10/60
| NEARS introduction training | 10 | 1 | 2
| NEARS e-learning (screenshots) | 10 | 1 | 10
| NEARS environmental assessment (recording form) | 46 | 24 | 25/60
| NEARS manager interview form | 46 | 24 | 20/60
| NEARS web entry (screenshots) | 46 | 6 | 45/60
Retail food personnel | NEARS manager interview form | 1,104 | 1 | 20/60

Jeffrey M. Zirger,
Lead, Information Collection Review Office, Office of Public Health Ethics and Regulations, Office of Science, Centers for Disease Control and Prevention.

[FR Doc. 2026-01615 Filed 1-26-26; 8:45 am]

BILLING CODE 4163-18-P